DEPARTMENT OF COMMERCE

International Trade Administration

[A-122-867, A-552-825, A-560-833, A-580-902]

Utility Scale Wind Towers From Canada, the Socialist Republic of Vietnam, Indonesia, and the Republic of Korea: Final Results of the Expedited First Sunset Reviews of the Antidumping Duty Orders

AGENCY: Enforcement and Compliance, International Trade Administration, Department of Commerce.

SUMMARY: The U.S. Department of Commerce (Commerce) finds that revocation of the antidumping duty (AD) orders on utility scale wind towers from Canada, the Socialist Republic of Vietnam (Vietnam), Indonesia, and the Republic of Korea (Korea) would be likely to lead to continuation or recurrence of dumping, at the levels indicated in the “Final Results of Sunset Reviews” section of this notice.

DATES: Applicable January 8, 2026.

FOR FURTHER INFORMATION CONTACT: David De Falco, Trade Agreements Policy and Negotiations, Enforcement and Compliance, International Trade Administration, U.S. Department of Commerce, 1401 Constitution Avenue NW, Washington, DC 20230; telephone: 202-482-2178.

SUPPLEMENTARY INFORMATION:

Background

On August 26, 2020, Commerce published the Orders in the Federal Register.¹ On July 1, 2025, Commerce published the notice of initiation of these first sunset reviews of the Orders, pursuant to section 751(c) of the Act.²

¹ See Utility Scale Wind Towers from Canada, Indonesia, the Republic of Korea, and the Socialist Republic of Vietnam: Antidumping Duty Orders, 85 FR 52546 (August 26, 2020) (Orders).

² See Initiation of Five-Year (Sunset) Reviews, 90 FR 28722 (July 1, 2025).

On July 16, 2025, Commerce received timely and complete notices of intent to participate in the sunset review for the domestic interested party within the deadline specified in the 19 CFR 351.218(d)(1)(i).³ The domestic interested party claimed the interested party status within the meaning of section 771(9)(F) of the Act as a coalition of U.S. producers of the domestic like product.⁴ On July 21, 2025, Commerce notified the U.S. International Trade Commission (ITC) that it had received a notice of intent to participate from the domestic interested parties.⁵

³ See Domestic Interested Party's Letter, “Utility Scale Wind Towers from Canada: Notice of Intent to Participate in Sunset Review,” dated July 16, 2025; Domestic Interested Party's Letter “Utility Scale Wind Towers from the Socialist Republic of Vietnam: Notice of Intent to Participate in Sunset Review,” dated July 16, 2025; Domestic Interested Party's Letter, “Utility Scale Wind Towers from Indonesia: Notice of Intent to Participate in Sunset Review,” dated July 16, 2025; and Domestic Interested Party's Letter, “Utility Scale Wind Towers from the Republic of Korea: Notice of Intent to Participate in Sunset Review,” dated July 16, 2025.

⁴ Id.

⁵ See Commerce's Letter, “Sunset Reviews Initiated on July 1, 2025,” dated July 21, 2025.

On July 30, 2025, pursuant to 19 CFR 351.218(d)(3)(i), domestic interested parties filed a timely and adequate substantive response.⁶ Commerce did not receive a substantive response from any respondent interested party. On August 22, 2025, Commerce notified the ITC that it did not receive substantive response from any respondent interested parties.⁷ As a result, pursuant to section 751(c)(3)(B) of the Act and 19 CFR 351.218(e)(1)(ii)(C)(2), Commerce is conducting expedited (120-day) sunset reviews of the Orders.

⁶ See Domestic Interested Party's Letter, “Utility Scale Wind Towers from Canada: Substantive Response to Notice of Initiation,” dated July 30, 2025; “Utility Scale Wind Towers from the Socialist Republic of Vietnam: Substantive Response to Notice of Initiation,” dated July 30,2025; “Utility Scale Wind Towers from Indonesia: Substantive Response to Notice of Initiation,” dated July 30, 2025; and “Utility Scale Wind Towers from the Republic of Korea: Substantive Response to Notice of Initiation,” dated July 30, 2025.

⁷ See Commerce's Letter, “Sunset Reviews Initiated on July 1, 2025,” dated August 22, 2025.

Due to the lapse in appropriations and Federal Government shutdown, on November 14, 2025, Commerce tolled all deadlines in administrative proceedings by 47 days.⁸ Additionally, due to a backlog of documents that were electronically filed via Enforcement and Compliance's Antidumping and Countervailing Duty Centralized Electronic Service System (ACCESS) during the Federal Government shutdown, on November 24, 2025, Commerce tolled all deadlines in administrative proceedings by an additional 21 days.⁹ Accordingly, the deadline for these final results is now January 5, 2026.

⁸ See Memorandum, “Deadlines Affected by the Shutdown of the Federal Government,” dated November 14, 2025.

⁹ See Memorandum, “Tolling of all Case Deadlines,” dated November 24, 2025.

Scope of the Orders

The product covered by these Orders is utility scale wind towers from Canada, Vietnam, Indonesia, and Korea. For the full description of the scope of the Orders, see the Issues and Decisions Memorandum.¹⁰

¹⁰ See Memorandum, “Issues and Decision Memorandum for the Final Results of the Expedited First Sunset Reviews of the Antidumping Duty Orders on Utility Scale Wind Towers from Canada, the Socialist Republic of Vietnam, Indonesia, and the Republic of Korea,” dated concurrently with, and hereby adopted by, this notice.

Analysis of Comments Received

A complete discussion of all issues raised in this sunset review, including the likelihood of continuation or recurrence of dumping in the event of revocation of the Orders and the magnitude of the margins likely to prevail if the Orders were to be revoked, is provided in the accompanying Issues and Decision Memorandum.¹¹ A list of the topics discussed in the Issues and Decision Memorandum is attached in the Appendix to this notice. The Issues and Decision Memorandum is a public document and is on file electronically via ACCESS. ACCESS is available to registered users at https://access.trade.gov. In addition, a complete version of the Issues and Decision Memorandum can be directly accessed at https://access.trade.gov/public/FRNoticesListLayout.aspx.

¹¹ Id.

Final Results of Sunset Reviews

Pursuant to sections 751(c)(1), 752(c)(1) and (3) of the Act, Commerce determines that revocation of the Orders would be likely to lead to continuation or recurrence of dumping, and that the magnitude of the dumping margins likely to prevail would be weighted-average dumping margins up to 4.94 percent for Canada, 65.96 percent for Vietnam, 8.53 percent for Indonesia, and 5.41 percent for Korea.

Notification Regarding Administrative Protective Orders

This notice also serves as the only reminder to parties subject to administrative protective order (APO) of their responsibility concerning the return or destruction of proprietary information disclosed under APO in accordance with 19 CFR 351.305. Timely notification of the return or destruction of APO materials, or conversion to judicial protective, orders is hereby requested. Failure to comply with the regulations and terms of an APO is a violation which is subject to sanction.

Notification to Interested Parties

We are issuing and publishing these final results in accordance with sections 751(c), 752(c), and 777(i)(1) of the Act, and 19 CFR 351.218 and 19 CFR 351.221(c)(5)(ii).

Dated: January 5, 2026.
Abdelali Elouaradia,
Deputy Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely to Prevail

VII. Final Results of Sunset Reviews

VIII. Recommendation

[FR Doc. 2026-00196 Filed 1-7-26; 8:45 am]

BILLING CODE 3510-DS-P